SECURITIES AND EXCHANGE COMMISSION

[SEC File No. 270-566, OMB Control No. 3235-0627]

Proposed Collection; Comment Request; Extension: Rule 17g-4

Upon Written Request, Copies Available From: Securities and Exchange Commission, Office of FOIA Services, 100 F Street NE, Washington, DC 20549-2736

Notice is hereby given that pursuant to the Paperwork Reduction Act of 1995 (44 U.S.C. 3501 et seq.), the Securities and Exchange Commission (“Commission”) is soliciting comments on the existing collection of information provided for in Rule 17g-4 (17 CFR 240.17g-4) under the Securities Exchange Act of 1934 (15 U.S.C. 78a et seq.) (“Exchange Act”). The Commission plans to submit this existing collection of information to the Office of Management and Budget for extension and approval.

Rule 17g-4 contains collection of information requirements.¹ Specifically, Rule 17g-4 requires each nationally recognized statistical rating organization (“NRSRO”) to establish, maintain, and enforce written policies and procedures that are reasonably designed to prevent the following: (1) the inappropriate dissemination of material nonpublic information obtained in connection with the performance of credit rating services; (2) a person within the NRSRO from trading or otherwise benefiting on material nonpublic information; and (3) the inappropriate dissemination of a pending credit rating action.

¹ See 17 CFR 240.17g-4.

Currently, there are 10 credit rating agencies registered as NRSROs with the Commission. Based on staff experience, an NRSRO is estimated to spend an average of approximately 10 hours per year reviewing policies and procedures required by Rule 17g-4, updating the policies and procedures (if necessary), and enforcing them, for a total industry-wide annual hour burden of approximately 100 hours.²

² 10 hours × 10 NRSROs = 100 hours.

Written comments are invited on: (a) whether the proposed collection of information is necessary for the proper performance of the functions of the Commission, including whether the information shall have practical utility; (b) the accuracy of the Commission's estimates of the burden of the proposed collection of information; (c) ways to enhance the quality, utility, and clarity of the information on respondents; and (d) ways to minimize the burden of the collection of information on respondents, including through the use of automated collection techniques or other forms of information technology. Consideration will be given to comments and suggestions submitted by February 11, 2025.

An agency may not conduct or sponsor, and a person is not required to respond to, a collection of information unless it displays a currently valid OMB control number. Please direct your written comments to: Austin Gerig, Director/Chief Data Officer, Securities and Exchange Commission, c/o Tanya Ruttenberg, 100 F St NE, Washington, DC 20549 or send an email to: PRA_Mailbox@sec.gov.

Dated: December 9, 2024.
Sherry R. Haywood,
Assistant Secretary.

[FR Doc. 2024-29303 Filed 12-12-24; 8:45 am]

BILLING CODE 8011-01-P